DEPARTMENT OF COMMERCE

International Trade Administration

Application of License To Enter Watches and Watch Movements Into the Customs Territory of the United States (Proposed New Title—Application for Insular Watch and Jewelry Program Benefits)

ACTION: Proposed collection; comment request.

SUMMARY: The Department of Commerce, as part of its continuing effort to reduce paperwork and respondent burdens, invites the general public and other Federal agencies to take this opportunity to comment on continuing information collections, as required by the Paperwork Reduction Act of 1995, Public Law 104-13 (44 U.S.C. 3506(c)(2)(A)).

DATES: Written comments must be submitted on or before November 7, 2005.

ADDRESSES: Direct all written comments to Diana Hynek, Departmental Paperwork Clearance Officer, Department of Commerce, Room 6625, 14th & Constitution Avenue, NW., Washington, DC 20230 or via the Internet at dHynek@doc.gov. or by phone at (202) 482-0266.

FOR FURTHER INFORMATION CONTACT: Request for additional information or copies of the information collection instrument and instructions should be directed to: Faye Robinson, Acting Director, Statutory Import Programs Staff, FCB Suite 4100W, U.S. Department of Commerce, Washington, DC 20230; Phone number: (202) 482-3526, and fax number: (202) 482-0949.

SUPPLEMENTARY INFORMATION:

I. Abstract

Public Law 97-446, as amended by Public Law 103-465, Public Law 106-36 and Public Law 108-429, requires the Departments of Commerce and the Interior to administer the distribution of watch duty-exemptions and watch and jewelry duty-refunds to program producers in the U.S. insular possessions and the Northern Mariana Islands. The primary consideration in collecting information is the enforcement of the laws and the information gathered is limited to that necessary to prevent abuse of the program and to permit a fair and equitable distribution of its benefits. Form ITA-334P is the principal program form used for recording operational data which are the bases for determining program entitlements and their distribution among the producers. This form also serves as the producer's application to the Departments for these entitlements. The form is completed biannually by watch and jewelry manufacturers. We propose modifying the form and the title of the form due to the passage of Public Law 106-36 and Public Law 108-429. Also, due to the passage of Public Law 108-429, new paperwork requirements need to be added to Form ITA-334P. Without the additional data, it would not be possible to calculate the further benefits mandated by law.

II. Method of Collection

The Department of Commerce sends Form ITA-334P to each watch and jewelry producer biannually. A company official completes the form and returns it to the Department of Commerce.

III. Data

OMB Number: 0625-0040.

Form Number: ITA-334P.

Type of Review: Revision-Regular Submission.

Affected Public: Business or other for-profit.

Estimated Number of Respondents: 16.

Estimated Time Per Response: 3 hour.

Estimated Total Annual Burden Hours: 48 hours.

Estimated Total Annual Costs: The estimated annual cost for this collection is $40,960 ($960 for respondents and $40,000 for Federal government (included are most administration costs of program).

IV. Request for Comments

Comments are invited on (a) whether the proposed collection of information is necessary for the proper performance of the functions of the agency, including whether the information shall have practical utility; (b) the accuracy of the agency's estimate of the burden (including hours and costs) of the proposed collection of information; (c) ways to enhance the quality, utility, and clarity of the information to be collected; and (d) ways to minimize the burden of the collection of information on respondents, including through the use of automated collection techniques or forms of information technology.

Comments submitted in response to this notice will be summarized and/or included in the request for OMB approval of this information collection; they also will become a matter of public record.

Dated: September 2, 2005.
Madeleine Clayton,
Management Analyst, Office of the Chief Information Officer.

[FR Doc. 05-17810 Filed 9-7-05; 8:45 am]

BILLING CODE 3510-DS-P